DEPARTMENT OF HEALTH AND HUMAN SERVICES

Centers for Disease Control and Prevention

[60Day-08-0669]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluation of State Nutrition and Physical Activity Programs to Prevent Obesity and Other Chronic Diseases—Reinstatement with Change—National Center for Chronic Disease Prevention and Health Promotion (NCCDHP), Centers for Disease Control and Prevention (CDC).

Background and Brief Description:

The “State Nutrition and Physical Activity Programs to Prevent Obesity and Other Chronic Diseases” (NPAO) project was established by CDC to prevent and control obesity and other chronic diseases by supporting States in the development and implementation of nutrition and physical activity interventions, particularly through population-based strategies such as policy-level changes, environmental supports and the social marketing process. The goal of the programs in this project is to attain population-based behavior change such as increased physical activity and better dietary habits; this leads to a reduction in the prevalence of obesity, and ultimately to a reduction in the prevalence of chronic diseases.

Evaluation questions for “State Nutrition and Physical Activity Programs to Prevent Obesity and Other Chronic Diseases” have been previously approved under OMB control no. 0920-0669, which is scheduled to expire January 31, 2008. CDC seeks OMB approval to reinstate the evaluation in 2008 with changes, in response to feedback from users and stakeholders based on experience with the previously approved questions. The evaluation is designed to focus on the recipient activities as outlined in the original funding announcement:

• Capacity building.

• Collaboration.

• Planning.

• Monitoring the burden of obesity.

• Intervention.

• Evaluation.

Within each of these areas, the plan identifies specific evaluation questions that have been chosen for study. The evaluation questions are asked of the funded states via a web-based data collection system supported by an electronic database every 6 months during the funding cycle. The project will continue to be conducted over a 3-year period.

There are no costs to respondents except their time to participate in the survey.

Estimated Annualized Burden Hours
Respondents | Number of respondents | Number of responses per respondent | Average burden per response (in hours) | Total burden (in hours)
States participating in NPAO | 28 | 2 | 12 | 672
Total |  |  |  | 672

Dated: December 11, 2007.
Maryam I. Daneshvar,
Acting Reports Clearance Officer, Centers for Disease Control and Prevention.

[FR Doc. E7-24325 Filed 12-14-07; 8:45 am]

BILLING CODE 4163-18-P